DEPARTMENT OF LABOR

Employment and Training Administration

[TA-W-65,776]

Mercedes-Benz United States International, Inc., Vance, AL; Notice of Termination of Investigation

Pursuant to Section 221 of the Trade Act of 1974, as amended, an investigation was initiated on April 8, 2009 in response to a petition filed on behalf of workers at Mercedes-Benz United States International, Inc., Vance, Alabama. The workers at the subject facility produce GL class, M class and R class vehicles.

The petitioners have requested that the petition be withdrawn. Consequently, the investigation has been terminated.

Signed in Washington, DC, this 18th day of May 2009.
Richard Church,
Certifying Officer, Division of Trade Adjustment Assistance.

[FR Doc. E9-15294 Filed 6-26-09; 8:45 am]

BILLING CODE 4510-FN-P